DEPARTMENT OF COMMERCE

National Oceanic and Atmospheric Administration

50 CFR Part 679

[Docket No. 230306-0065; RTID 0648-XC882]

Fisheries of the Exclusive Economic Zone Off Alaska; Reallocation of Pollock in the Bering Sea and Aleutian Islands Management Area; Correction

AGENCY: National Marine Fisheries Service (NMFS), National Oceanic and Atmospheric Administration (NOAA), Commerce.

ACTION: Temporary rule; reallocations; correction.

SUMMARY: NMFS is correcting a temporary rule that reallocated Aleut Corporation and Community Development Quota pollock from the Aleutian Islands subarea to the Bering Sea subarea in the Bering Sea and Aleutian Islands management area. The amounts of pollock remaining in the Aleutian Islands subarea were incorrect.

DATES: Effective 1200 hours, Alaska local time (A.l.t.), March 30, 2023, through 2400 hours, A.l.t., December 31, 2023.

FOR FURTHER INFORMATION CONTACT: Abby Jahn, 907-586-7228.

SUPPLEMENTARY INFORMATION:

Need for Correction

NMFS published the reallocation of pollock on March 23, 2023 (88 FR 17403). The document contains incorrect amounts of pollock remaining for the Aleutian Islands subarea total allowable catch (TAC) and the Aleut Corporation's A and B season directed fishing allowance. Aleutian Islands subarea TAC is corrected from 19,000 to 4,500. Aleut Corporation is corrected from 2,100 to 2,000 for column “2023 A season” and from (100) to n/a for column “2023 B season”. NMFS is republishing the table in its entirety with the correct numbers. These corrections will not affect the fishing operations. These corrections are necessary to provide the correct information about the amount of the pollock remaining for the Aleutian Islands subarea TAC and the Aleut Corporation A and B season directed fishing allowance and eliminate potential confusion by fishery participants.

Correction

In the Federal Register of March 23, 2023 (88 FR 17403), in FR Doc. 2023-06021, on page 17404, Table 4 is corrected to read as follows:

Table 4—Final 2023 Allocations of Pollock TACs to the Directed Pollock Fisheries and to the CDQ Directed Fishing Allowances (DFA) ¹
[Amounts are in metric tons]
Area and sector | 2023 Allocations | 2023 A season ¹: A season DFA | 2023 A season ¹: Steller sea lion conservation area (SCA) harvest limit ² | 2023 B season ¹: B season DFA
Bering Sea subarea TAC ¹ | 1,314,500 | n/a | n/a | n/a
CDQ DFA | 131,900 | 59,355 | 36,932 | 72,545
ICA ¹ | 50,000 | n/a | n/a | n/a
Total Bering Sea non-CDQ DFA | 1,132,600 | 509,670 | 317,128 | 622,930
AFA Inshore | 566,300 | 254,835 | 158,564 | 311,465
AFA Catcher/Processors: ³ | 453,040 | 203,868 | 126,851 | 249,172
Catch by catchers/processors (CPs) | 414,532 | 186,539 | n/a | 227,992
Catch by catcher vessels (CVs) ³ | 38,508 | 17,329 | n/a | 21,180
Unlisted CP Limit ⁴ | 2,265 | 1,019 | n/a | 1,246
AFA Motherships | 113,260 | 50,967 | 31,713 | 62,293
Excessive Harvesting Limit ⁵ | 198,205 | n/a | n/a | n/a
Excessive Processing Limit ⁶ | 339,780 | n/a | n/a | n/a
Aleutian Islands subarea acceptable biological catch (ABC) | 43,413 | n/a | n/a | n/a
Aleutian Islands subarea TAC ¹ | 4,500 | n/a | n/a | n/a
CDQ DFA |  |  | n/a |
ICA | 2,500 | 1,250 | n/a | 1,250
Aleut Corporation | 2,000 | 2,000 | n/a | n/a
Area harvest limit: ⁷ | n/a | n/a | n/a | n/a
541 | 13,024 | n/a | n/a | n/a
542 | 6,512 | n/a | n/a | n/a
543 | 2,171 | n/a | n/a | n/a
Bogoslof District ICA ⁸ | 300 | n/a | n/a | n/a
Note: Seasonal or sector apportionments may not total precisely due to rounding.
¹ Pursuant to § 679.20(a)(5)(i)(A), the Bering Sea subarea pollock TAC, after subtracting the CDQ DFA (10 percent) and the ICA (50,000 mt, 4.27 percent), is allocated as a DFA as follows: inshore sector—50 percent, CP sector—40 percent, and mothership sector—10 percent. In the Bering Sea subarea, 45 percent of the DFAs are allocated to the A season (January 20-June 10) and 55 percent of the DFAs are allocated to the B season (June 10-November 1). When the AI pollock ABC equals or exceeds 19,000 mt, the annual TAC is equal to 19,000 mt (§ 679.20(a)(5)(iii)(B)(1)). Pursuant to § 679.20(a)(5)(iii)(B)(2), the Aleutian Islands subarea pollock TAC, after subtracting first for the CDQ DFA (10 percent) and second for the ICA (2,500 mt), is allocated to the Aleut Corporation for a pollock directed fishery. In the Aleutian Islands subarea, the A season is allocated no more than 40 percent of the Aleutian Islands pollock ABC.
² In the Bering Sea subarea, pursuant to § 679.20(a)(5)(i)(C), no more than 28 percent of each sector's annual DFA may be taken from the SCA before 12 p.m. (noon), April 1.
³ Pursuant to § 679.20(a)(5)(i)(A)(4), 8.5 percent of the allocation to listed CPs shall be available for harvest only by eligible catcher vessels with a CP endorsement delivering to listed CPs, unless there is a CP sector cooperative for the year.
⁴ Pursuant to § 679.20(a)(5)(i)(A)(4)(iii), the AFA unlisted catcher/processors are limited to harvesting not more than 0.5 percent of the catcher/processor sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ Pursuant to § 679.22(a)(7)(i)(B), the Bogoslof District is closed to directed fishing for pollock. The amounts specified are for incidental catch only and are not apportioned by season or sector.

Classification

The Assistant Administrator for Fisheries, NOAA (AA), finds good cause to waive the requirement to provide prior notice and opportunity for public comment pursuant to the authority set forth at 5 U.S.C. 553(b)(B) as such requirement is impracticable and contrary to the public interest. This action corrects an error that attributed the total amount of pollock remaining for the Aleutian Islands subarea TAC (4,500 metric tons (mt)) and the Aleut Corporation (2,000 mt). This correction does not change operating practices in the fisheries. Corrections should be made as soon as possible to avoid confusion for participants in the fisheries.

The AA also finds good cause to waive the 30-day delay in the effective date of this action under 5 U.S.C. 553(d)(3). This finding is based upon the reasons provided above for waiver of prior notice and opportunity for public comment.

Authority: 16 U.S.C. 1801 et seq.

Dated: March 27, 2023.
Jennifer M. Wallace,
Acting Director, Office of Sustainable Fisheries, National Marine Fisheries Service.

[FR Doc. 2023-06609 Filed 3-27-23; 4:15 pm]

BILLING CODE 3510-22-P